DEPARTMENT OF HEALTH AND HUMAN SERVICES

Agency for Toxic Substances and Disease Registry

[30Day-23-0060]

Agency Forms Undergoing Paperwork Reduction Act Review

In accordance with the Paperwork Reduction Act of 1995, the Agency for Toxic Substances and Disease Registry (ATSDR) has submitted the information collection request titled Environmental Health and Land Reuse Certificate Training (formerly “Assessment of Environmental Health and Land Reuse Certification Training”) to the Office of Management and Budget (OMB) for review and approval. ATSDR previously published a “Proposed Data Collection Submitted for Public Comment and Recommendations” notice on April 7, 2023, to obtain comments from the public and affected agencies. ATSDR received no comments related to the previous notice. This notice serves to allow an additional 30 days for public and affected agency comments.

ATSDR will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Environmental Health and Land Reuse Certificate Training (OMB Control No. 0923-0060)—Reinstatement with Change—Agency for Toxic Substances and Disease Registry (ATSDR).

Background and Brief Description

The Agency for Toxic Substances and Disease Registry (ATSDR) is requesting a three-year Paperwork Reduction Act (PRA) clearance for a Reinstatement with Change information collection request (ICR) titled Environmental Health and Land Reuse Certificate Training (formerly Assessment of Environmental Health and Land Reuse Certification Training) (OMB Control No. 0923-0060).

This certificate program is a collaboration between ATSDR and the National Environmental Health Association (NEHA) under a cooperative agreement. ATSDR and NEHA have a long-standing partnership to build capacity among environmental professionals. The EHLR certification is geared toward NEHA members and ATSDR stakeholders who are environmental professionals, primarily local and state health agency employees but also planners, environmental consultants, environmental non-profits, and students in environmental science, environmental/public health, and planning. The certification goals and course objectives are:

• To increase participant awareness and knowledge of environmental health and land reuse;

• To increase skills and capacity of participants to engage in environmental health and land reuse work; and

• To assess participant feedback and assessment of their own increased awareness, skills, and knowledge in environmental health and land reuse.

Due to the prevalence of potentially contaminated land reuse sites such as brownfields, the certificate program and training modules focus on increasing skills in land reuse and redevelopment through the integration of epidemiology, risk assessment, risk communication, and toxicology concepts and resources.

The Environmental Health and Land Reuse (EHLR) certificate training includes a 5-module “EHLR Basic” training. The EHLR Basic certificate is offered in two modes. NEHA independently maintains its non-federally sponsored, asynchronous “EHLR Basic” training through its online learning management system (LMS). ATSDR's National Land Reuse Health Program (Land Reuse Program) maintains its classroom version of the training for learners who prefer virtual/classroom instruction or who may have limited broadband.

Under the previous PRA clearance, ATSDR completed a one-time collection of feedback by survey within 6-12 months after participation. This follow-up survey evaluated the subsequent use of the EHLR Basic certificate program training materials and resources to build capacity and skills in environmental health and land reuse work. Under this current Reinstatement with Change ICR, the follow-up survey is no longer needed because the EHLR Basic training course content has been successfully established based on the feedback. In addition, the EHLR Basic training was to be administered under the CDC Training and Continuing Education Online (TCEO) system (see “Application for Training” [OMB Control No. 0920-0017; Expiration Date 09/30/2025]). ATSDR has moved away from TCEO and will administer its own classroom courses.

Based on its experience in the past 30 months, ATSDR estimates approximately 100 participants per year will attend “EHLR Basic” classroom learning. For burden hour estimation, we assume that all participants have completed all modules and self-assessments. In reality, participants who download the “EHLR Basic” course and teach it (e.g., in a college or workplace class) or complete it themselves, may complete these modules on a schedule spread over several months or over more than one year.

For the “EHLR Basic” course, ATSDR will administer the following self-assessments for each of the five modules: Engaging with Your Community, Evaluating Environmental and Health Risks, Communicating Environmental and Health Risks to the Community, Redesigning with Health in Mind, and Measuring Success. NEHA will assist ATSDR by issuing certificates of completion and continuing education credits.

ATSDR is also planning a new mode of instruction for supplemental “EHLR Immersion Training” in three new modules: Community Engagement, Evaluation of Environmental and Health Risks, and Communicating Environmental and Health Risks. This training will be offered as a face-to-face session at environmental conferences to those who have completed the prerequisite EHLR online or classroom certification. Regarding the supplemental immersion training, ATSDR estimates that 125 conference attendees will meet the prerequisite “EHLR Basic” certification requirement and will register for the training through the conference portal. They will be asked to complete a voluntary self-assessment for each module. An additional certificate of completion and continuing education credits will be issued by NEHA for each of the three supplemental immersion trainings.

For both “EHLR Basic” classroom and “EHLR Immersion” conference training, ATSDR estimates a total of 225 registered participants. Some of the registrations will be through conference registration portals and some may be directly with ATSDR. We estimate the time burden per registration will be three minutes. In keeping with Privacy Act requirements, participants will be offered the ability to opt-out of allowing ATSDR to share their names and email addresses with NEHA. Those that opt-out may still take the training but will not receive a completion certificate or continuing education credits. We anticipate this will be a rare event but are still accounting for this possibility.

Participation in this information collection is voluntary. The total time burden is estimated to be 145 hours, which is an increase of 78 hours over the previously approved 67 hours. The addition of registration and self-assessment forms and the discontinuation of the follow-up survey under the previous ICR, will result in 1,600 annual responses, which is an increase of 1,400 over the previously approved 200 responses for the follow-up survey alone. There is no cost to respondents other than their time.

Estimated Annualized Burden Hours
Type of respondent | Form name | Number of respondents | Number of responses per respondent | Average burden per response (in hours)
Environmental Health Professionals and Affiliates | EHLR Registration Form (Basic/Immersion) (online) EHLR Privacy Act Opt-Out Form (Basic/Immersion) | 225 11 | 1 1 | 3/60 1/60
| EHLR Basic Course Module 1 Self-assessment (online) | 100 | 1 | 5/60
| EHLR Basic Course Module 2 Self-assessment (online) | 100 | 1 | 5/60
| EHLR Basic Course Module 3 Self-assessment (online) | 100 | 1 | 5/60
| EHLR Basic Course Module 4 Self-assessment (online) | 100 | 1 | 5/60
| EHLR Basic Course Module 5 Self-assessment (online) | 100 | 1 | 5/60
| EHLR Immersion Module 1 Self-assessment (online) | 125 | 1 | 15/60
| EHLR Immersion Module 2 Self-assessment (online) | 125 | 1 | 15/60
| EHLR Immersion Module 3 Self-assessment (online) | 125 | 1 | 15/60

Jeffrey M. Zirger,
Lead, Information Collection Review Office, Office of Public Health Ethics and Regulations, Office of Science, Centers for Disease Control and Prevention.

[FR Doc. 2023-16757 Filed 8-4-23; 8:45 am]

BILLING CODE 4163-18-P